COMMISSION ON CIVIL RIGHTS

Agenda and Notice of Public Meeting of the North Carolina Advisory Committee

Notice is hereby given, pursuant to the provisions of the rules and regulations of the U.S. Commission on Civil Rights (Commission) and the Federal Advisory Committee Act (FACA) that the North Carolina Advisory Committee (Committee) to the Commission will meet on Wednesday, April 25, 2012, at the Conference Center, Sheraton Hotel, 3121 Highpoint Rd., Greensboro, NC 27407, for the purpose of receiving a briefing on equal educational opportunity and to discuss the Committee's draft report on school discipline. The briefing meeting is scheduled to begin at 1 p.m. and adjourn at approximately 2 p.m. The planning meeting is scheduled to begin at approximately 2 p.m. and adjourn at approximately 3 p.m.

Members of the public are entitled to submit written comments. The comments must be received in the Southern Regional Office of the Commission by May 25, 2012. The address is Southern Regional Office, U.S. Commission on Civil Rights, 61 Forsyth Street, Suite 16T126, Atlanta, GA 30303. Persons wishing to email their comments, or to present their comments verbally at the meeting, or who desire additional information should contact Elida Rodriguez, Administrative Assistant, Southern Regional Office, at (404) 562-7000, (or for hearing impaired TDD 800-877-8339), or by email to erodriguez@usccr.gov. Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address. The meeting will be conducted pursuant to the provisions of the rules and regulations of the Commission and FACA.

Dated in Washington, DC, April 2, 2012.
Peter Minarik,
Acting Chief, Regional Programs Coordination Unit.

[FR Doc. 2012-8237 Filed 4-5-12; 8:45 am]

BILLING CODE 6335-01-P